SMALL BUSINESS ADMINISTRATION

[Disaster Declaration #17759 and #17760; Alabama Disaster Number AL-00128]

Presidential Declaration of a Major Disaster for the State of Alabama

AGENCY: U.S. Small Business Administration.

ACTION: Notice.

SUMMARY: This is a Notice of the Presidential declaration of a major disaster for the State of Alabama (FEMA-4684-DR), dated 01/15/2023.

Incident: Severe Storms, Straight-line Winds, and Tornadoes.

Incident Period: 01/12/2023.

DATES: Issued on 01/15/2023.

Physical Loan Application Deadline Date: 03/16/2023.

Economic Injury (EIDL) Loan Application Deadline Date: 10/16/2023.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 01/15/2023, applications for disaster loans may be filed at the address listed above or other locally announced locations.

The following areas have been determined to be adversely affected by the disaster:

Primary Counties (Physical Damage and Economic Injury Loans): Autauga, Dallas.

Contiguous Counties (Economic Injury Loans Only):

Alabama: Chilton, Elmore, Lowndes, Marengo, Montgomery, Perry, Wilcox.

The Interest Rates are:

| Percent
For Physical Damage:
Homeowners with Credit Available Elsewhere | 4.625
Homeowners without Credit Available Elsewhere | 2.313
Businesses with Credit Available Elsewhere | 6.610
Businesses without Credit Available Elsewhere | 3.305
Non-Profit Organizations with Credit Available Elsewhere | 2.375
Non-Profit Organizations without Credit Available Elsewhere | 2.375
For Economic Injury:
Businesses & Small Agricultural Cooperatives without Credit Available Elsewhere | 3.305
Non-Profit Organizations without Credit Available Elsewhere | 2.375

The number assigned to this disaster for physical damage is 17759 C and for economic injury is 17760 0.

(Catalog of Federal Domestic Assistance Number 59008)

Rafaela Monchek,
Acting Associate Administrator for Disaster Recovery and Resilience.

[FR Doc. 2023-01281 Filed 1-23-23; 8:45 am]

BILLING CODE 8026-09-P